DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance (TAA) from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[06/20/2012 to 07/06/12]
Firm name | Firm address | Date accepted for investigation | Product(s)
Showman Fabricators, Inc | 47-22 Pearson Place, Long Island City, NY 11101 | 06/22/12 | The firm builds props and sets for the trade show, theatrical, and broadcasting industries.
Crowell Cap and Embroidery d/b/a American Made Cap Co | 116 N. Avenue A, Crowell, TX 79227 | 06/22/12 | The firm manufactures caps and custom apparel.
Sun Precast Company, Inc | 4051 Ridge Road, Beaver Springs, PA 17812 | 06/25/12 | The firm manufactures architectural precast concrete and cast stone products.
Debond Corp. d/b/a Flexpak Corporation | 3720 W. Washington Street, Phoenix, AZ 85009 | 06/25/12 | The firm manufactures custom thermoforming and contract packaging solutions.
Spike's Trophies, Ltd. | 2701 Grant Avenue, Philadelphia, PA 19114 | 07/06/12 | The firm produces custom awards, plaques, trophies, medals, signage and other promotional products.
Micom Corporation | 475 Old Highway 8 NW., New Brighton, MN 55112 | 06/28/12 | The firm manufactures multi-layered printed circuit boards.
Connor Winfield Corporation | 2211 Comprehensive Drive, Aurora, IL 60505 | 07/05/12 | The firm manufactures diode, transistor, and semiconductor parts for the telecommunications industry.
Moore Merkowitz Tile, Ltd | 5552 East Valley Road, P.O. Box 280, Alfred Station, NY 14803 | 07/05/12 | The firm manufactures ceramic tiles.
Young Electric Sign Company d/b/a YESCO | 2401 Foothill Drive, Salt Lake City, UT 84109 | 06/28/12 | The firm designs and manufactures custom electric signs for advertising purposes.
RJ Studios, Inc | 206 Camars Drive, Warminster, PA 18974 | 07/05/12 | The firm designs and creates prototypes, including electronic prototypes and wax and clay sculpting.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: July 9, 2012.
Bryan Borlik,
Director, TAA for Firms.

[FR Doc. 2012-17102 Filed 7-12-12; 8:45 am]

BILLING CODE 3510-WH-P